DEPARTMENT OF COMMERCE

National Oceanic and Atmospheric Administration

RIN 0648-XH16

Pacific Whiting; Joint Management Committee and Scientific Review Group

AGENCY: National Marine Fisheries Service (NMFS), National Oceanic and Atmospheric Administration (NOAA), Commerce.

ACTION: Notice.

SUMMARY: NMFS is soliciting nominations for two advisory groups called for in the Pacific Whiting Act of 2006 (Act). Nominations received pursuant to this notice will be used to appoint one U.S. offshore whiting commercial sector representative to the Joint Management Committee and two U.S. representatives to the Scientific Review Group.

DATES: Nominations must be received by May 12, 2008.

ADDRESSES: You may submit nominations by any of the following methods:

• E-mail: WhitingReps.nwr@noaa.gov: Include 0648-XH16 in the subject line of the message.

• Fax: 206-526-6736, Attn: Frank Lockhart.

• Mail: D. Robert Lohn, Administrator, Northwest Region, NMFS, 7600 Sand Point Way NE, Seattle, WA, 98115-0070.

Each submission should be specific to either the Joint Management Committee or the Scientific Review Group.

FOR FURTHER INFORMATION CONTACT: Frank Lockhart at 206-526-6142.

SUPPLEMENTARY INFORMATION: Title VI of the Magnuson-Stevens Fishery Conservation and Management Reauthorization Act of 2006 entitled “The Pacific Whiting Act of 2006,” implements the 2003 treaty “Agreement Between the Government of the United States of America and the Government of Canada on Pacific Hake/Whiting.” Among other provisions, the Whiting Act provides for the establishment of the Joint Management Committee (Sec. 603(a)(D)) and the Scientific Review Group (Sec. 604(a)) to advise the Joint U.S. Canada Management Committee on bilateral whiting management issues. For the establishment of these committees, the Act requires the Secretary of Commerce appoint:

(1) 1 individual to the Joint Management Committee that represents the U.S. “commercial sector of the whiting fishing industry concerned with the offshore whiting resource;” and,

(2) “2 scientific experts to serve on the Scientific Review Group.”

Nominations are sought for the Secretary to consider in making these appointments.

Nomination Packages should include:

1. The name of the applicant or nominee and the committee or review group they are being nominated for; and,

2. A statement of background and/or description of how the nominee meets the requirements to represent the U.S. on the relevant committee or group.

In the initial year of treaty implementation, NMFS anticipates that up to 3 meetings for each group will be required. In subsequent years, 1-2 meetings will be held annually. Meetings will be held in the United States or Canada. Representatives will need a valid U.S. passport. Members appointed to represent the United States will be reimbursed for necessary travel expenses.

The Pacific Whiting Act of 2006 also states that while performing their appointed duties, members “shall be considered to be Federal Employees only for purposes of: (1) injury compensation under chapter 81 of title 5, United States Code; (2) requirements concerning ethics, conflicts of interest, and corruption as provided under title 18, United States Code; and, (3) any other criminal or civil statute or regulation governing the conduct of Federal employees.”

Authority: 16 U.S.C. 1801 et seq.

Dated: April 7 2008.
Emily H. Menashes,
Acting Director, Office of Sustainable Fisheries, National Marine Fisheries Service.

[FR Doc. E8-7792 Filed 4-10-08; 8:45 am]

BILLING CODE 3510-22-S